DEPARTMENT OF AGRICULTURE

Grain Inspection, Packers and Stockyards Administration

7 CFR Part 868

United States Standards for Milled Rice

AGENCY: Grain Inspection, Packers and Stockyards Administration, USDA.

ACTION: Direct final rule.

SUMMARY: The Grain Inspection, Packers and Stockyards Administration (GIPSA) is revising the United States Standards for Milled Rice to establish and add a new level of milling degree, “ hard milled,” to the existing milling requirements, and to eliminate reference to “lightly milled” from the milling requirements of U.S. Standards for Milled Rice. These changes are being made to facilitate the marketing of rice by better aligning the standards with current processing and marketing practices.

DATES: This rule is effective December 1, 2002, without further action, unless adverse comment is received by October 31, 2002. If adverse comment is received, GIPSA will publish a timely withdrawal of the rule in the Federal Register.

ADDRESSES: Written comments must be submitted to Tess Butler, USDA, GIPSA, Room 1647-S, STOP 3604, 1400 Independence Avenue, SW, Washington, DC 20250-3604; FAX (202) 690-2755; or e-mail: comments.gipsa@usda.gov.

All comments received will be made available for public inspection at the above address during regular business hours (8 a.m.-3:30 p.m.).

FOR FURTHER INFORMATION CONTACT: John Giler, Chief, Policies and Procedures Branch at (202) 720-0252 or e-mail: John.C.Giler@usda.gov.

SUPPLEMENTARY INFORMATION:

Background

GIPSA representatives work closely with the USA Rice Federation (USARF) and Rice Millers' Association (RMA) representatives to examine the effectiveness of the U.S. Standards for Rice in today's marketing environment. Through discussions, it appears that most of the current standards continue to meet consumer/processing needs. However, changing market trends demand that certain changes be made pertaining to the acceptable degrees of milling in milled rice. Accordingly, GIPSA is making the appropriate changes to the standards to include a hard milled milling degree to the standards and removing the lightly milled milling degree from the standards.

The U.S Standards for Milled Rice currently recognize three degrees of milling: “well-milled”, “reasonably well-milled”, and “lightly milled”. Well-milled is the highest degree (or whitest) of milling degrees addressed by the standards. The degree of milling is based on the extent to which the bran layers are removed from the kernels of rice.

In recent years, the U.S. milled rice market has changed, as domestic and international customers alike demand a higher degree of milling. To satisfy this demand, U.S. rice mills routinely mill their rice to a degree surpassing the USDA well-milled standard. This process or practice, commonly referred to as “hard milled,” efficiently removes any loose bran adhering to the surface of the milled rice and enhances the milled rice's appearance by giving it a brighter, whiter look.

Hard milled, by many accounts, represents the preferred degree of milling by today's customers. To satisfy the growing demand for hard milled rice, GIPSA, in cooperation with the USARF and the RMA, established a visual reference standard representing the minimum degree with which millers must mill their rice in order to receive the hard milled designation.

To provide an immediate and temporary means of recognizing and standardizing the manner in which hard milled is evaluated and documented on a certificate, the parties worked together to permit such an assessment. When requested, lots meeting the visual standard may have affixed in the “Remarks” section of the certificate the statement “This rice meets or exceeds the minimum requirements for hard milled rice.”

However, the highest degree of milling permitted for certification purposes is well-milled, regardless of the extent of milling. When hard milled is requested, the resulting certificate indicates that the rice is well-milled in the “Factor Information” section, and in the “Remarks” section indicates that the rice meets or exceeds the requirements for hard milled.

To eliminate possible confusion with both designations on one certificate, and at industries' request, GIPSA is amending the standards to include hard milled as another milling degree. The revision only serves to identify hard milled as being another milling option and recognizes it as being a higher degree of milling than well-milled.

The introduction of hard milled will not have any impact on the minimum milling requirements for grades U.S. Nos. 1 and 2, as well-milled will continue to be the minimum milling degree requirement for these grade levels.

Also, through discussions, USARF and RMA revealed that the demand for lesser degrees of milling, specifically lightly milled, is non-existent. U.S. mills do not mill or ship lightly milled rice as there has been no demand for it.

Since it is generally recognized that lightly milled has outlived its usefulness as a meaningful marketing standard, the standards will be revised to remove lightly milled from the list of milling degree requirements. As such, the degree of milling for milled rice will now include hard milled, well-milled, and reasonably well-milled. For grading purposes, any reference to lightly milled with respect to the minimum milling requirements will be replaced by reasonably well-milled. Samples failing to meet the minimum requirement for reasonably well-milled will be considered “Undermilled Milled Rice.”

Action

GIPSA is amending § 800.306 and § 800.315 to add “hard milled” as a milling degree and to remove “lightly milled” from the milling requirements. GIPSA is also amending §§ 800.310, 800.311, 800.312, and 800.313 by replacing “lightly milled” with “reasonably well-milled”. Also, GIPSA is correcting miscellaneous typographical and wording errors in the milled rice standards, and deleting the reference to the Motomco Moisture Meter in the definition of “moisture.” Due to changing technology, the Motomco Moisture Meter may soon be obsolete. Therefore, GIPSA is revising the definition of moisture to a more generic wording which excludes the mention of any specific instrument.

Effective Date

We are publishing this rule without a prior proposal because we view this action as noncontroversial and anticipate no adverse public comment. This rule will be effective, as published in this document, on December 1, 2002, unless we receive written adverse comments or written notices of intent to submit adverse comments by October 31, 2002.

Adverse comments are comments that suggest the rule should not be adopted or that suggest the rule should be changed.

If we receive written adverse comments or written notices of intent to submit adverse comments, we will publish a notice in the Federal Register withdrawing this rule before the effective date and publish a proposed rule for public comment. Following the close of that comment period, the comments will be considered, and a final rule addressing the comments will be published.

As discussed above, if we receive no written adverse comments nor written notice of intent to submit adverse comments by June 30, 2002, this direct final rule will become effective on August 1, 2002.

Executive Order 12866

This rule has been determined to be nonsignificant for the purpose of Executive Order 12866 and, therefore, has not been reviewed by the Office of Management and Budget.

Regulatory Flexibility Act Certification

Pursuant to requirements set forth in the Regulatory Flexibility Act (RFA) (5 U.S.C. 601 et seq.), it has been determined that this rule will not have a significant economic impact on a substantial number of small entities. Under the provisions of the Agricultural Marketing Act of 1946 (7 U.S.C. 1621 et seq.), it is not mandatory for rice to be officially inspected. GIPSA has determined that most users of the official inspection service and those entities that perform these services do not meet the requirements for small entities. GIPSA estimates there are approximately 45 rice mills within the United States. In addition to GIPSA, there are 2 cooperating States that inspect rice. Even though some users could be considered small entities, this rule should not impose addition costs, but instead further aligns the standards with current market practices. Further, the regulations are applied equally to all entities.

Executive Order 12988

This final rule has been reviewed under Executive Order 12988, Civil Justice Reform. This action is not intended to have a retroactive effect. This action will not preempt any State or local laws, regulations, or policies unless they present irreconcilable conflict with this rule. There are no administrative procedures that must be exhausted prior to any judicial challenge to the provisions of this rule.

Information Collection and Recordkeeping Requirements

In compliance with the Paperwork Reduction Act of 1995 (44 U.S.C. 3501 et seq.), the information collection and recordkeeping requirements in Part 868 have been previously approved by OMB No. 0580-0013.

List of Subjects in 7 CFR Part 868

Milling requirements, moisture, and grade charts.

PART 868—GENERAL REGULATIONS AND STANDARDS FOR CERTAIN AGRICULTURAL COMMODITIES

For reasons, set out in the preamble, GIPSA amends 7 CFR part 868 as follows:

1. Section 868.306 is revised to read as follows:

§ 868.306 Milling requirements.

The degree of milling for milled rice; i.e., “hard milled,” “well-milled,” and “reasonably well-milled,” shall be equal to, or better than, that of the interpretive line samples for such rice.

2. Section 868.307 is revised to read as follows:

§ 868.307 Moisture.

Water content in milled rice as determined by an FGIS approved device in accordance with procedures prescribed in FGIS instructions.

3. Section 868.310 is revised to read as follows:

§ 868.310 Grades and grade requirements for the classes Long Grain Milled Rice, Medium Grain Milled Rice, Short Grain Milled Rice, and Mixed Milled Rice. (See also § 868.315.)

Grades, Grade Requirements, and Grade Designations
Grade | Maximum limits of—: Seeds, heat damaged, and paddy kernels (singly or combined): Total (number in 500 grams) | Maximum limits of—: Seeds, heat damaged, and paddy kernels (singly or combined): Heat damaged kernels and objectionable seeds (number in 500 grams) | Maximum limits of—: Red rice and damaged kernels (singly or combined) (percent) | Maximum limits of—: Chalky kernels ¹ ²: In long grain rice (percent) | Maximum limits of—: Chalky kernels ¹ ²: In medium or short grain rice (percent) | Maximum limits of—: Broken kernels: Total (percent) | Maximum limits of—: Broken kernels: Removed by a 5 plate ³ (percent) | Maximum limits of—: Broken kernels: Removed by a 6 plate ³ (percent) | Maximum limits of—: Broken kernels: Through a 6 sieve ³ (percent) | Maximum limits of—: Other types ⁴: Whole kernels (percent) | Maximum limits of—: Other types ⁴: Whole and broken kernels (percent) | Color requirements ¹ | Minimum milling requirements ⁵
U.S. No. 1 | 2 | 1 | 0.5 | 1.0 | 2.0 | 4.0 | 0.04 | 0.1 | 0.1 |  | 1.0 | White or creamy | Well Milled.
U.S. No. 2 | 4 | 2 | 1.5 | 2.0 | 4.0 | 7.0 | 0.06 | 0.2 | 0.2 |  | 2.0 | Slightly gray | Well Milled.
U.S. No. 3 | 7 | 5 | 2.5 | 4.0 | 6.0 | 15.0 | 0.1 | 0.8 | 0.5 |  | 3.0 | Light gray | Reasonably well milled.
U.S. No. 4 | 20 | 15 | 4.0 | 6.0 | 8.0 | 25.0 | 0.4 | 1.0 | 0.7 |  | 5.0 | Gray or slightly rosy | Reasonably well milled.
U.S. No. 5 | 30 | 25 | ⁵ 6.0 | 10.0 | 10.0 | 35.0 | 0.7 | 3.0 | 1.0 | 10.0 |  | Dark gray or rosy | Reasonably well milled.
U.S. No. 6 | 75 | 75 | ⁶ 15.0 | 15.0 | 15.0 | 50.0 | 1.0 | 4.0 | 2.0 | 10.0 |  | Dark gray or rosy | Reasonably well milled.
U.S. Sample grade: | U.S. Sample grade shall be milled rice of any of these classes which: (a) Does not meet the requirements for any of the grades from U.S. No. 1 to U.S. No. 6, inclusive; (b) contains more than 15.0 percent of moisture; (c) is musty or sour, or heating; (d) has any commercially objectionable foreign odor; (e) contains more than 0.1 percent of foreign material; (f) contains two or more live re dead weevils or other insects, insect webbing, or insect refuse; or (g) is otherwise of distinctly low quality.
¹ For the special grade Parboiled milled rice, see § 868.315(c).
² For the special grade Glutinous milled rice, see § 868.315(e).
³ Plates should be used for southern production rice; and sieves should be used for western production rice, but any device or method which gives equivalent results may be used.
⁴ These limits do not apply to the class Mixed Milled Rice.
⁵ For the special grade Undermilled milled rice, see § 868.315(d).
⁶ Grade U.S. No. 6 shall contain not more than 6.0 percent of damaged kernels.

4. Section 868.311 is revised to read as follows:

§ 868.311 Grades and grade requirements for the class Second Head Milled Rice. (See also § 868.305.)

Grades, Grade Requirements, and Grade Designations
Grade | Maximum limits of—: Seeds, heat-damaged, and paddy kernels (singly or combined): Total (number in 500 grams) | Maximum limits of—: Seeds, heat-damaged, and paddy kernels (singly or combined): Heat-damaged kernels and objectionable seeds (number in 500 grams) | Maximum limits of—: Red rice and damaged kernels (singly or combined) (percent) | Maximum limits of—: Chalky kernels 1 3 (percent) | Maximum limits of—: Color requirements ¹ | Maximum limits of—: Minimum milling requirements ²
U.S. No. 1 | 15 | 5 | 1.0 | 4.0 | White or Creamy | Well milled.
U.S. No. 2 | 20 | 10 | 2.0 | 6.0 | Slightly gray | Well milled.
U.S. No. 3 | 35 | 15 | 3.0 | 10.0 | Light gray | Reasonably well milled.
U.S. No. 4 | 50 | 25 | 5.0 | 15.0 | Gray or slightly gray | Reasonably well milled.
U.S. No. 5 | 75 | 40 | 10.0 | 20.0 | Dark gray or rosy | Reasonably well milled.
U.S. Sample grade:
U.S. Sample grade shall be milled rice of this class which: (a) Does not meet the requirements for any of the grades from U.S. No. 1 to U.S. No. 5, inclusive; (b) contains more than 15.0 percent of moisture; (c) is musty or sour, or heating; (d) has any commercially objectionable foreign odor; (e) contains more than 0.1 percent of foreign material; (f) contains two or more live or dead weevils or other insects, insect webbing, or insect refuse; or (g) is otherwise of distinctly low quality.
¹ For the special grade Parboiled milled rice, see § 868.315(c).
² For the special grade Undermilled milled rice, see § 868.315(d).
³ For the special grade Glutinous milled rice, see § 868.315(e).

5. Section 868.312 is revised to read as follows:

§ 868.312 Grades and grade requirements for the class Brewers Milled Rice. (See also § 868.315.)

Grades, Grade Requirements, and Grade Designations
Grade | Maximum limits of—: Paddy kernels and seeds: Total (number in 500 grams) | Maximum limits of—: Paddy kernels and seeds: Objectionable seeds (number in 500 grams) | Maximum limits of—: Chalky kernels 1 3 (percent) | Maximum limits of—: Color requirements ¹ | Maximum limits of—: Minimum milling requirements ²
U.S. No. 14 5 | 30 | 20 | 5.0 | White or Creamy | Well milled.
U.S. No. 24 5 | 75 | 50 | 8.0 | Slightly gray | Well milled.
U.S. No. 34 5 | 125 | 90 | 12.0 | Light gray or slightly rosy | Reasonably well milled.
U.S. No. 44 5 | 175 | 140 | 20.0 | Gray or rosy | Reasonably well milled.
U.S. No. 5 | 250 | 200 | 30.0 | Dark gray or very rosy | Reasonably well milled.
U.S. Sample grade:
U.S. Sample grade shall be milled rice of this class which: (a) Does not meet the requirements for any of the grades from U.S. No. 1 to U.S. No. 5, inclusive; (b) contains more than 15.0 percent of moisture; (c) is musty or sour, or heating; (d) has any commercially objectionable foreign odor; (e) has a badly damaged or extremely red appearance (f) contains more than 0.1 percent of foreign material; (g) contains two or more live or dead weevils or other insects, insect webbing, or insect refuse; or (h) is otherwise of distinctly low quality.
¹ For the special grade Parboiled milled rice, see § 868.315(c).
² For the special grade Undermilled milled rice, see § 868.315(d).
³ For the special grade Glutinous milled rice, see § 868.315(e).
⁴ Grades U.S. No. 1 to U.S. No. 4, inclusive, shall contain not more than 3.0 percent of heat-damaged kernels, kernels damaged by heat and/or parboiled kernels in nonparboiled rice.
⁵ Grades U.S. No. 1 to U.S. No. 4, inclusive, shall contain not more than 1.0 percent of material passing through a 30 sieve.

6. Section 868.313 is revised to read as follows:

§ 868.313 Grades and grade requirements for the class Brewers Milled Rice. (See also § 868.315.)

Grades, Grade Requirements, and Grade Designations
Grade | Maximum limits of— paddy kernels and seeds: Total (singly or combined) (percent) | Maximum limits of— paddy kernels and seeds: Objectionable seeds (percent) | Color requirements ¹ | Minimum milling requirements ²
U.S. No. 1 ³ ⁴ | 0.5 | 0.05 | White or Creamy | Well milled.
U.S. No. 2 ³ ⁴ | 1.0 | 0.1 | Slightly gray | Well milled.
U.S. No. 3 ³ ⁴ | 1.5 | 0.2 | Light gray or slightly rosy | Reasonably well milled.
U.S. No. 4 ³ ⁴ | 3.0 | 0.4 | Gray or rosy | Reasonably well milled.
U.S. No. 5 | 5.0 | 1.5 | Dark gray or very rosy | Reasonably well milled.
U.S. Sample grade: | U.S. Sample grade shall be milled rice of this class which: (a) Does not meet the requirements for any of the grades from U.S. No. 1 to U.S. No. 5, inclusive; (b) contains more than 15.0 percent of moisture; (c) is musty or sour, or heating; (d) has any commercially objectionable foreign odor; (e) has a badly damaged or extremely red appearance; (f) contains more than 0.1 percent of foreign material; (g) contains more than 15.0 percent of broken kernels that will pass through a 2½ sieve; (h) contains two or more live or dead weevils or other insects, insect webbing, or insect refuse; or (h) is otherwise of distinctly low quality.
¹ For the special grade Parboiled milled rice, see § 868.315(c).
² For the special grade Undermilled milled rice, see § 868.315(d).
³ Grades U.S. No. 1 to U.S. No. 4, inclusive, shall contain not more than 3.0 percent of heat-damaged kernels, kernels damaged by heat and/or parboiled kernels in nonparboiled rice.
⁴ Grades U.S. No. 1 to U.S. No. 4, inclusive, shall contain not more than 1.0 percent of material passing through a 30 sieve. This limit does not apply to the special grade Granulated brewers milled rice.

7. Section 868.315(d) is revised to read as follows:

§ 868.315 Special grades and special grade requirements.

* * * * *

(d) Undermilled milled rice. Undermilled milled rice shall be milled rice which is not equal to the milling requirements for “hard milled,” “well milled,” and “reasonably well milled” rice (see § 868.306). Grades U.S. No. 1 and U.S. No. 2 shall contain not more than 2.0 percent, grades U.S. No. 3 and U.S. No. 4 not more than 5.0 percent, grade U.S. No. 5 not more than 10.0 percent, and grade U.S. No. 6 not more than 15.0 percent of well-milled kernels. Grade U.S. No. 5 shall contain not more than 10.0 percent of red rice and damaged kernels (singly or combined) and in no case more than 6.0 percent of damaged kernels.

* * * * *

Dated: September 24, 2002.
Donna Reifschneider,
Administrator, Grain Inspection, Packers and Stockyards Administration.

[FR Doc. 02-24750 Filed 9-27-02; 8:45 am]

BILLING CODE 3410-EN-P